DEPARTMENT OF ENERGY

Western Area Power Administration

Wildfire Risk Reduction, Reliability, and Asset Protection (WRAP) Project, Trinity County, California (DOE/EIS-0548)

AGENCY: Western Area Power Administration, Department of Energy.

ACTION: Notice of Intent to prepare a joint Environmental Impact Statement/Environmental Impact Report and to conduct scoping meetings; Notice of Floodplain and Wetlands Involvement.

SUMMARY: The Western Area Power Administration (WAPA) and Trinity Public Utility District (Trinity PUD) are proposing a proactive Wildfire Risk Reduction, Reliability, and Asset Protection (WRAP) Project to reduce fire risk to the surrounding communities and public lands, as well as to increase electric reliability to maintain critical services in local communities. WAPA and Trinity PUD will prepare a joint Environmental Impact Statement (EIS) and Environmental Impact Report (EIR) in accordance with the National Environmental Policy Act of 1969 (NEPA), U.S. Department of Energy (DOE) NEPA Implementing Procedures, Council on Environmental Quality (CEQ) regulations for implementing NEPA, and the California Environmental Quality Act (CEQA) as codified in California's Public Resource Code, and the Guidelines for Implementation of the California Quality Act (CEQA Guidelines) in Title 14 of the California Code of Regulations. Portions of the proposed action may affect floodplains or wetlands, so this Notice of Intent (NOI) also serves as a notice of proposed floodplain or wetlands action in accordance with DOE floodplain and wetlands review requirements.

DATES: WAPA invites public comments on the scope of the WRAP EIS/EIR during a 45-day public scoping period. WAPA will provide a notice in local media outlets of the dates of the scoping period and scoping meetings. Public notice of the date and time of the public scoping meetings will also be posted on the Project website at https://www.wapa.gov/regions/SN/environment/Pages/WRAP.aspx.

ADDRESSES: Written comments on the scope of the EIS/EIR and requests to be added to the EIS/EIR distribution list may be submitted by any of the following methods:

• Electronic comments via the Project website at: https://www.wapa.gov/regions/SN/environment/Pages/WRAP.aspx.

• Email: saare@wapa.gov.

• U.S. Mail: Tish Saare, Western Area Power Administration, 114 Parkshore Dr., Folsom, CA 95630.

WAPA will consider all comments on the scope of the EIS received or postmarked by the end of the scoping period. The public is invited to submit comments on the proposed WRAP Project for WAPA's consideration at any time during the EIS process.

FOR FURTHER INFORMATION CONTACT: For additional information or to have your name added to our mailing list, contact Tish Saare, Western Area Power Administration, 114 Parkshore Dr., Folsom, CA 95630, telephone (916) 847-3608, email at saare@wapa.gov.

For general information on DOE's NEPA review process, contact Brian Costner, Office of NEPA Policy and Compliance, GC-54, U.S. Department of Energy, 1000 Independence Avenue SW, Washington, DC 20585-0119, email AskNEPA@hq.doe.gov, telephone (202) 586-4600 or (800) 472-2756, facsimile (202) 586-7031.

For more information related to Trinity PUD's participation, contact Mr. Andy Lethbridge, Electric Superintendent, 26 Ponderosa Ln, Weaverville, CA 96093, telephone (530) 623-5537, email alethbridge@trinitypud.com.

SUPPLEMENTARY INFORMATION: WAPA is a power marketing administration within DOE. WAPA has a statutory responsibility to make the necessary arrangements to deliver Federal power to Federally authorized water projects and to market and deliver cost-based Federal power in excess of that needed to meet Federal load to wholesale preference customers in regions within the central and western United States. WAPA's preference customers include Federal and State agencies, Native American tribes, electric cooperatives, municipal utilities, public utility districts, irrigation districts, and water districts. Trinity PUD receives the majority of its power from WAPA's Trinity Interconnect 60-kilovolt (kV) Transmission Line.

Trinity PUD is the local electric utility provider for Trinity County, California. It provides most of the customers in Trinity County with 100-percent renewable hydroelectric energy from the Trinity Dam. Trinity PUD supplies power through its 604 miles of power lines that are located in rugged and mountainous terrain. Its service area covers approximately 2,100 square miles in Trinity County and is sparsely populated, with fewer than 12 customers per mile of line.

The areas surrounding WAPA's and Trinity PUD's electric transmission and distribution systems in Trinity County are particularly vulnerable to fire risk due to the dense vegetation and steep terrain. The proposed WRAP Project would reduce these fire risks by expanding WAPA's and Trinity PUD's existing transmission/distribution rights-of-way (ROWs) and implementing a proactive, integrated vegetation management program within the expanded ROWs.

WAPA has determined that an EIS is the appropriate level of review under NEPA. WAPA will prepare the EIS in accordance with NEPA, DOE's NEPA Implementing Procedures, and the CEQ regulations for implementing NEPA. WAPA will be the lead Federal agency for the NEPA EIS review process, and the U.S. Forest Service (USFS), Bureau of Land Management (BLM), and Bureau of Reclamation (BOR) will be cooperating agencies. WAPA intends to prepare a joint EIS/EIR for the proposed WRAP Project. Trinity PUD will be the lead agency for the CEQA EIR review process. As portions of the proposed action may affect floodplains and wetlands, this NOI also serves as a notice of proposed floodplain or wetland action in accordance with DOE floodplain and wetland environmental review requirements (10 CFR parts 1021 and 1022).

Purpose and Need for Agency Action: The purpose of WRAP is to: (1) Reduce the risk of wildfire by proactive vegetation management; (2) enhance protection of the WAPA and Trinity PUD electrical transmission and distribution line systems; (3) improve the reliability of power delivery to Trinity PUD under WAPA's contract; (4) improve transmission line access by road improvement; and (5) protect the health and safety of the Trinity County community and surrounding biological and natural resources from transmission- and distribution-related wildfires.

Proposed Action and Alternatives: In accordance with the proposed Project purpose and need, WAPA and Trinity PUD propose the WRAP Project.

WAPA proposes to expand the width of its ROW for its 17.5-mile, 60-kV transmission line between Trinity Substation and Weaverville Switchyard from 80 feet to up to 130 feet on USFS, BLM, and private lands. This transmission line provides the majority of the electricity to the Trinity PUD system.

Trinity PUD proposes to expand its utility ROW width from 20 feet to up to 130 feet for its overhead transmission and distribution system (216.8 miles) in high-fire risk areas on USFS, BLM, BOR, and private or other lands. The existing ROW easement for the underground distribution lines would not change.

The proposed Project would also include the improvement of WAPA's existing legal access roads using best management practices for routine access road maintenance and associated rehabilitation. Trinity PUD would maintain their existing local access roads to the standards set by the land managers.

Vegetation in the ROW may be cleared using a combination of mechanical, manual, and herbicidal control methods. Manual methods may include cutting, girdling, topping and trimming, slash disposal/fuels reduction techniques, and burning. Mechanical methods would be used in areas in which vegetation can be removed non-selectively. Most pieces of mechanical equipment are not safe to operate on slopes over 30-to 35-percent; mechanical methods are also constrained where soils are susceptible to compaction or erosion. Herbicidal control is another option that WAPA and Trinity PUD are exploring as an option to manage vegetation. Only those herbicides that have been approved for use in ROW maintenance based on evaluations of toxicity, solubility, soil adsorption potential, and persistence in water and soil would be used. Additionally, herbicides would only be applied by individuals with applicator licenses/certificates and in accordance with label requirements.

In order to maintain long-term vegetation clearances along the expanded ROWs, the proposed Project would include an updated and improved operation and maintenance plan (O&M Plan) and GIS database of all assets and sensitive resources along the subject ROWs. As part of the updated O&M Plan and GIS database, the proposed Project would develop Standard Operating Procedures, which would be implemented for all O&M tasks, as well as Project Conservation Measures that would be implemented to protect specific sensitive species in the ROW.

As part of the proposed Project, WAPA and Trinity PUD would submit applications for ROW authorizations for the expansion of transmission and distribution line ROWs on BLM and USFS administered lands. Trinity PUD would also amend its Interagency Agreement with BOR. In addition, the proposed Project may include timber sale contracts with the USFS, BLM, BOR, and private landowners for merchantable timber resulting from ROW expansions and vegetation removal.

No Action Alternative: NEPA requires WAPA to consider a no action alternative. The no action alternative serves as a baseline to measure the environmental impacts of action alternatives. No action does not mean no change; the no action alternative would include current vegetation management, access road maintenance, and other ongoing O&M activities within existing ROWs. There would be no ROW expansion under the no action alternative. As part of the EIS/EIR process, WAPA will consider a no action alternative.

Notice of Floodplain or Wetlands Involvement: Floodplains and wetlands may be present in the Project area. As the proposal may involve action in floodplains or wetlands, this NOI serves as a notice of proposed floodplain or wetland action. The EIS/EIR will include an assessment of impacts to floodplains and wetlands. If needed, WAPA will prepare a floodplain statement of findings following DOE regulations for compliance with floodplains and wetlands environmental review requirements and include that statement in the EIS/EIR.

Preliminary Identification of Environmental Issues: WAPA proposes to analyze potential short-term environmental impacts, such as those from implementation, and potential long-term environmental impacts of maintaining the expanded ROW. DOE's guidance for the preparation of an EIS/EIR recommends the use of a sliding-scale approach when evaluating environmental impacts. This approach would focus the analysis and discussion of impacts on significant environmental issues in proportion to the level of the potential impacts. WAPA identified the following preliminary list of impact areas for evaluation in the EIS/EIR:

• Air Quality and Greenhouse Gas Emissions

• Biological Resources

• Cultural and Tribal Resources

• Energy

• Hazards and Hazardous Materials

• Hydrology and Water Quality

• Land Use and Recreation

• Noise and Vibration

• Population and Housing

• Soils and Mineral Resources

• Transportation

• Utilities/Service Systems/Public Services

• Visual Resources

• Wildfire and Forestry Resources

This list is not intended to be all-inclusive or to imply a predetermination of impacts. WAPA invites interested stakeholders to suggest specific issues, including possible mitigation measures, within these general categories, or other categories not included above, to be considered in the EIS/EIR.

Public Participation: The purpose of the scoping process is to identify issues, concerns, possible alternatives, and potential environmental impacts that WAPA should analyze in the EIS/EIR. There will be two scoping meetings, one in the morning and one in the evening on the date determined, to accommodate and encourage public participation. Each meeting will use Zoom Webinar and will be virtual or online consistent with statewide restrictions with in-person meetings because of the COVID-19 pandemic.

WAPA will also announce the public scoping meetings in local news media and by posting on the Project environmental website at https://www.wapa.gov/regions/SN/environment/Pages/WRAP.aspx at least 14 days before the meetings.

The public will have the opportunity to learn about the Project, view maps, and present comments on the scope of the WRAP EIS/EIR. Representatives from WAPA and Trinity PUD will be available to answer questions and provide additional information to meeting attendees.

In addition to providing comments at the webinar public scoping meetings, stakeholders may submit written comments as described in the ADDRESSES section above. WAPA will consider all comments postmarked or received during the public scoping period identified in the DATES section above. The public is also invited to submit comments on the proposed Project for WAPA's consideration at any time during the EIS process.

WAPA will coordinate with appropriate Federal, State, and local agencies, and potentially affected Native American tribes during the preparation of the EIS/EIR. Agencies with legal jurisdiction or special expertise are invited to participate as cooperating agencies in preparation of the EIS, as defined in 40 CFR 1501.8(a).¹ Designated cooperating agencies have responsibilities to support the NEPA process, as specified in 40 CFR 1501.8(b).² WAPA will contact tribes and inform them of the planned EIS/EIR. Government-to-government consultations will be conducted in accordance with Executive Order 13175, Consultation and Coordination with Indian Tribal Governments (65 FR 67249); the President's memorandum of April 29, 1994, Government-to-Government Relations with Native American Tribal Governments (59 FR 22951); DOE-specific guidance on tribal interactions; and other applicable Federal and State natural and cultural resources laws and regulations.

¹ CEQ revised its NEPA implementing regulations, effective September 14, 2020. Update to the Regulations Implementing the Procedural Provisions of the National Environmental Policy Act, 85 FR 43304, 43361 (July 16, 2020).

² See id. at 85 FR 43361-43362.

Upon completion of the scoping period, WAPA will draft an EIS/EIR. A Notice of Availability of the Draft EIS/EIR will be published in the Federal Register, which will begin a minimum 45-day public comment period. WAPA will announce how to comment on the Draft EIS/EIR and will hold two public hearings during the comment period. People who would like to receive a copy of the Draft EIS/EIR should submit a request as provided in the ADDRESSES section above. For those requesting to be added to the distribution list, you are encouraged to download the EIS/EIR and other documents from the above website; however, if you prefer to be mailed a copy, please specify the format of the EIS/EIR that you would like to receive (CD or printed) and a preference for either the complete EIS/EIR or the Summary only. WAPA will maintain information about the process, including documents, meeting information, and important dates, on the Project website given above. The EIS/EIR, along with other Project information, will be available for download from the Project website. Please visit the Project website for current information.

Signing Authority

This document of the Department of Energy was signed on December 1, 2020, by Mark A. Gabriel, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 7, 2020
Treena V. Garrett,
Federal Register Liaison Officer, U.S. Department of Energy.

[FR Doc. 2020-27147 Filed 12-10-20; 8:45 am]

BILLING CODE 6450-01-P